DEPARTMENT OF THE INTERIOR

National Park Service

[NPS-SER-FOPU-13218; PX.P0072916D.00.1]

Final General Management Plan, Final Wilderness Study, and Final Environmental Impact Statement, Fort Pulaski National Monument, Georgia

AGENCY: National Park Service, Interior.

ACTION: Notice of Availability.

SUMMARY: Pursuant to Section 102 (2) (C) of the National Environmental Policy Act of 1969, 42 U.S.C. 4332(2)(C), the National Park Service (NPS) announces the availability of a Final Environmental Impact Statement for the General Management Plan and Wilderness Study (Final EIS/GMP/WS) for Fort Pulaski National Monument (national monument), Georgia. Consistent with NPS laws, regulations, and policies and the purpose of the national monument, the Final EIS/GMP/WS will guide the management of the national monument over the next 20+ years.

DATES: The NPS will execute a Record of Decision (ROD) no sooner than 30 days following publication of the Environmental Protection Agency's Notice of Availability of the Final EIS/GMP/WS in the Federal Register.

ADDRESSES: Electronic copies of the Final EIS/GMP/WS will be available online at http://parkplanning.nps.gov/FOPU. To request a copy, contact David Libman, National Park Service, 100 Alabama Street, 1924 Building, Atlanta, Georgia 30303; telephone (404) 507-5701. A limited number of compact disks and printed copies of the Final EIS/GMP/WS will be made available at Fort Pulaski National Monument Headquarters, Cockspur Island, US Highway 80 East, Savannah, Georgia 31410-0757.

FOR FURTHER INFORMATION CONTACT: David Libman, National Park Service, 100 Alabama Street, 1924 Building, Atlanta, Georgia 30303; telephone (404) 507-5701.

SUPPLEMENTARY INFORMATION: The Final EIS/GMP/WS responds to, and incorporates agency and public comments received on the Draft EIS, which was available for public review from May 11, 2012, through July 9, 2012. Two public meetings were held on June 13, 2012, and June 14, 2012, and a total of 29 comments were received. The NPS responses to substantive agency and public comments are provided in Chapter 5, Consultation and Coordination section, of the Final EIS/GMP/WS.

The Final EIS/GMP/WS evaluates three alternatives for managing use and development of the national monument:

• Alternative A, the No Action alternative represents the continuation of current management action and direction into the future.

• Alternative B, the NPS preferred alternative, focuses management of the national monument on the April 1862 period of significance in terms of the landscape and interpretive programs. This alternative would emphasize the restoration, preservation, and interpretation of historic landscapes and viewsheds of the site for the purpose of providing visitors a greater understanding of the siege and reduction of Fort Pulaski in 1862.

• Alternative C which focuses management on a broader interpretive mandate than Alternative B. Alternative C would include a wider range of themes and historic periods as well as natural resource themes.

When approved, the plan will guide the management of the national monument over the next 20+ years.

The responsible official for this Final EIS/GMP/WS is the Regional Director, NPS Southeast Region, 100 Alabama Street SW., 1924 Building, Atlanta, Georgia 30303.

Dated: July 11, 2013.
Gordon Wissinger,
Acting Regional Director, Southeast Region.

[FR Doc. 2013-17793 Filed 7-23-13; 8:45 am]

BILLING CODE 4310-JD-P